DEPARTMENT OF HEALTH AND HUMAN SERVICES

Food and Drug Administration

[Docket No. FDA-2012-N-0001]

Medical Countermeasures Initiative Regulatory Science Symposium

AGENCY: Food and Drug Administration, HHS.

ACTION: Notice of meeting.

The Food and Drug Administration (FDA) is announcing the following meeting: Medical Countermeasures Initiative Regulatory Science Symposium. The symposium is intended to provide a forum for the exchange of ideas for medical countermeasure development, highlight work on regulatory science as it applies to the development and advancement of medical countermeasures, facilitate innovative directions, and inform stakeholders on medical countermeasure-related scientific progress and accomplishments.

Date and Time: This symposium will be held on Tuesday, June 5 and Wednesday, June 6, 2012, from 8 a.m. to 5:30 p.m. Persons interested in attending the symposium in person or viewing via Web cast must register by Tuesday, May 29, 2012, at 5 p.m. EST.

Location: The symposium will be held at the FDA White Oak Campus, 10903 New Hampshire Ave., Bldg. 31, rm. 1503, Silver Spring, MD 20993-0002.

Contact: Rakesh Raghuwanshi, Office of Counterterrorism and Emerging Threats, Food and Drug Administration, 10903 New Hampshire Ave., Bldg. 32, rm. 4283, 301-796-4769, FAX: 301-847-8615, email: Rakesh.Raghuwanshi @fda.hhs.gov.

Registration: If you wish to attend the symposium or view via Web cast, you must register at http://www.fda.gov/medicalcountermeasures by Tuesday, May 29, 2012, at 5 p.m. EST. When registering, you must provide the following information: (1) Your name, (2) title, (3) company or organization (if applicable), (4) mailing address, (5) phone number, and (6) email address.

There is no fee to register for the symposium and registration will be on a first-come, first-served basis. Early registration is recommended because seating is limited. If you need special accommodations due to a disability, please enter pertinent information in the “Notes” section of the electronic registration form when you register.

Dated: April 6, 2012.
David Dorsey,
Acting Associate Commissioner for Policy and Planning.

[FR Doc. 2012-8695 Filed 4-10-12; 8:45 am]

BILLING CODE 4160-01-P